DEPARTMENT OF JUSTICE

Notice of Lodging of Consent Decree Under the Clean Air Act

Under 28 CFR 50.7, notice is hereby given that on October 11, 2005, a Consent Decree in United States and the State of Louisiana v. Chalmette Refining, L.L.C., Civil Action No. 05-4662, was lodged with the United States District Court for the Eastern District of Louisiana.

In a complaint that was filed simultaneously with the Consent Decree, the United States and the State of Louisiana sought injunctive relief and penalties against Chalmette Refining, L.L.C. (“CRLLC”) pursuant to Sections 113(b) and 304(a) of the Clean Air Act, 42 U.S.C. 7413(b) and 7604(a), for alleged Clean Air Act violations and violations of the corollary provisions in state law at a petroleum refinery in Chalmette, Louisiana owned by CRLLC. The complaint also alleged violations of release reporting requirements under Section 103 of the Comprehensive Environmental Response, Compensation, and Liability Act, 42 U.S.C. 9603, and Section 304 of the Emergency Planning and Community Right-to-Know Act, 42 U.S.C. 11004.

Under the settlement, CRLLC will implement innovative pollution control technologies to reduce emissions of nitrogen oxides, sulfur dioxide, and particulate matter from refinery process units. CRLLC also will adopt facility-wide enhanced benzene waste monitoring and fugitive emission control programs. In addition, CRLLC will pay a $1 million civil penalty for settlement of the claims in the complaint. Finally, CRLLC will undertake $3 million in Federal and State environmentally-beneficial projects, including spending at least $1 million to retrofit or replace an existing gas-fired compressor to reduce emission of nitrogen oxides and providing $2 million for acquisition and protection of coastal lands in the State of Louisiana.

The Department of Justice will receive comments relating to the Consent Decree for a period of thirty (30) days from the date of this publication. Comments should be addressed to the Assistant Attorney General, Environment and Natural Resources Division, P.O. Box 7611, U.S. Department of Justice, Washington, D.C. 20044-7611, and should refer to United States and the State of Louisiana v. Chalmette Refining, L.L.C., D.J. Ref. No. 90-5-2-1-07030/2.

The Consent Decree may be examined at the Offices of the U.S. Environmental Protection Agency, Region 6, 1445 Ross Avenue, Dallas Texas. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $40.75 (25 cents per page reproduction cost) payable to the U.S. Treasury.

Robert D. Brook,
Assistant Section Chief, Environmental Enforcement Section, Environment and Natural Resources Division.

[FR Doc. 05-20936 Filed 10-18-05; 8:45 am]

BILLING CODE 4410-15-M